DEPARTMENT OF HEALTH AND HUMAN SERVICES

National Institutes of Health

National Institute on Drug Abuse; Cancellation of Meeting

Notice is hereby given of the cancellation of the National Institute on Drug Abuse Special Emphasis Panel, April 03, 2025, 11:00 a.m. to April 03, 2025, 12:30 p.m., National Institutes of Health, National Institute on Drug Abuse, 301 North Stonestreet Avenue, Bethesda, MD, 20892 which was published in the Federal Register on March 17, 2025, FR Doc 2025-04241, 90 FR 12329.

This meeting has been canceled and will not be rescheduled.

Dated: March 24, 2025.
David W. Freeman,
Supervisory Program Analyst, Office of Federal Advisory Committee Policy.

[FR Doc. 2025-05290 Filed 3-27-25; 8:45 am]

BILLING CODE 4140-01-P